DEPARTMENT OF TRANSPORTATION

Federal Transit Administration

Limitation on Claims Against Proposed Public Transportation Projects—West Broad Street Bus Rapid Transit, Columbus, Franklin County, Ohio and VIA Advanced Rapid Transit East/West Corridor Project, San Antonio, Bexar County, Texas

AGENCY: Federal Transit Administration (FTA), Department of Transportation (DOT).

ACTION: Notice.

SUMMARY: This notice announces final environmental actions taken by the Federal Transit Administration (FTA) regarding two projects: the West Broad Street Bus Rapid Transit, Columbus, Franklin County, Ohio; and VIA Advanced Rapid Transit East/West Corridor Project, San Antonio, Bexar County, Texas. The purpose of this notice is to publicly announce FTA's environmental decisions on the subject projects, and to activate the limitation on any claims that may challenge these final environmental actions.

DATES: A claim seeking judicial review of FTA actions announced herein for the listed public transportation projects will be barred unless the claim is filed on or before May 18, 2026.

FOR FURTHER INFORMATION CONTACT: Kathryn Loster, Assistant Chief Counsel, Office of Chief Counsel, (202) 360-2322, or Saadat Khan, Environmental Protection Specialist, Office of Environmental Policy and Programs, (202) 366-6385. FTA is located at 1200 New Jersey Avenue SE, Washington, DC 20590. Office hours are from 9:00 a.m. to 5:00 p.m., Monday through Friday, except Federal holidays.

SUPPLEMENTARY INFORMATION: Notice is hereby given that FTA has taken final agency actions subject to 23 U.S.C. 139(l) by issuing certain approvals for the public transportation projects listed below. The actions on the projects, as well as the laws under which such actions were taken, are described in the documentation issued in connection with the projects to comply with the National Environmental Policy Act (NEPA) and in other documents in the FTA environmental project files for the projects. Interested parties may contact either the project sponsor or the relevant FTA Regional Office for more information. Contact information for FTA's Regional Offices may be found at https://www.transit.dot.gov/about/regional-offices/regional-offices.

This notice applies to all FTA decisions on the listed projects as of the issuance date of this notice and all laws under which such actions were taken, including, but not limited to, NEPA (42 U.S.C. 4321-4375), Section 4(f) requirements (49 U.S.C. 303), Section 106 of the National Historic Preservation Act (54 U.S.C. 306108), the Endangered Species Act (16 U.S.C. 1531), the Clean Water Act (33 U.S.C. 1251), the Uniform Relocation and Real Property Acquisition Policies Act (42 U.S.C. 4601), and the Clean Air Act (42 U.S.C. 7401-7671q). This notice does not, however, alter or extend the limitation period for challenges of project decisions subject to previous notices published in the Federal Register. The project actions that are the subject of this notice are as follows:

1. Project name and location: West Broad Street Bus Rapid Transit (BRT), Columbus, Franklin County, Ohio.

Project Sponsor: Central Ohio Transit Authority (COTA).

Project description: The West Broad Street BRT (Project) corridor is approximately 9.3 miles in length and would operate in 5.2 miles of dedicated guideway and 4.1 miles of mixed-flow traffic along West Broad Street from Rockbrook Crossing Avenue in Prairie Township to Long Street and Washington Avenue in Downtown Columbus. The Project includes the construction of 17 near-level boarding stations with Americans with Disabilities Act accessibility and off-board fare collection; end of line layover facilities; mixed-flow traffic and dedicated center running bus lanes; transit signal priority; traffic signal reconstruction; bicycle lanes; shared-use paths; sidewalk reconstruction and associated infrastructure and stormwater improvements. The Project also involves construction of a new Rockbrook Crossing Park and Ride end of layover facility. In addition, the COTA McKinley Avenue Garage would be upgraded to support the maintenance and operation of the Project's transit vehicles.

Final agency action: Section 106 No Adverse Effect determination, dated July 25, 2025; Section 4(f) de minimis impact determination, dated October 3, 2025; and determination of the applicability of a categorical exclusion pursuant to 23 CFR 771.118(d), dated October 3, 2025.

Supporting documentation: COTA West Broad Bus Rapid Transit Project Documented Categorical Exclusion (CE), dated September 10, 2025. The CE and associated documents can be viewed and downloaded from: https://linkuscolumbus.com/westbroad/.

2. Project name and location: VIA Advanced Rapid Transit (ART) East/West Corridor Project, San Antonio, Bexar County, Texas.

Project Sponsor: VIA Metropolitan Transit.

Project description: The VIA ART East/West Corridor Project (Project) is an approximately 7.3-mile BRT line operating in a mix of center dedicated lanes, curbside dedicated Business Access and Transit lanes, and mixed traffic lanes within the City of San Antonio. The Project corridor extends from Coca-Cola Place in the east through downtown San Antonio to General McMullen Drive in the west along East Houston Street, Cherry Street, Commerce Street, Buena Vista Street, Dolorosa Street, and Market Street. The Project also includes transit signal priority and construction of 18 new or modified stations. Stations are planned to include amenities such as off-board fare collection; real-time arrival information; security cameras; lighting; and platforms for level boarding.

Final agency action: Section 106 No Adverse Effect determination, dated October 8, 2025; Section 4(f) de minimis impact determination, dated November 25, 2025; and determination of the applicability of a categorical exclusion pursuant to 23 CFR 771.118(d), dated November 25, 2025.

Supporting documentation: VIA Advanced Rapid Transit East/West Corridor Project Documented Categorical Exclusion and supporting materials, dated October 31, 2025. The CE and associated documents can be viewed and downloaded from: https://keepsamoving.com/projects/via-rapid/via-rapid-silver-line/.

Authority: 23 U.S.C. 139(l)(1).

Megan Blum,
Deputy Associate Administrator for Planning and Environment.

[FR Doc. 2025-23406 Filed 12-18-25; 8:45 am]

BILLING CODE 4910-57-P